DEPARTMENT OF AGRICULTURE

Forest Service

Black River Land Exchange; Apache National Forest; Apache and Greenlee Counties, AZ

AGENCY: Forest Service, USDA.

ACTION: Notice of intent to prepare an environmental impact statement.

SUMMARY: The Forest Service, USDA will prepare an environmental impact statement (EIS) on a proposal to exchange 337.74 acres of federal lands north of the unincorporated community of Greer, Arizona, for 396.35 acres of non-federal lands along the West Fork of the Black River and the Blue River in east-central Arizona. The EIS will analyze the proposed change of the federal lands described as Tract A and Tract B for the non-federal lands described as Rancho Alegre, Thompson Ranch, and Blue River Ranch parcels. The federal and non-federal lands proposed for exchange are located in Apache and Greenlee Counties, Arizona. The affected Forest Service units are the Springerville and Alpine Ranger Districts of the Apache-Sitgreaves National Forests. The exchange would occur with First American Title Insurance Company, Trustee, under Trust 8541, on behalf of Precision Components, Inc., Herbert W. Owens. Summit Resources, LLC is acting as a third-party facilitator for the non-federal landowner. Implementation of the proposed exchange is scheduled for August 2008. The Apache-Sitgreaves National Forest Supervisor invites the public to submit comments on the proposal and suggestions on the scope of the proposed exchange. The Forest Supervisor also invites the public to participate in the environmental analysis and decision-making process for the proposed exchange of lands.

DATES: Comments concerning the scope of the analysis must be received by October 31, 2007. The draft EIS is scheduled for availability in February 2008, and the final EIS is expected to be available in June 2008.

ADDRESSES: Send written comments to Bruce Buttrey, Natural Resources Specialist, Springerville Ranger District, Apache-Sitgreaves National Forest, P.O. Box 760, Springerville, AZ 85938. Oral comments may be conveyed to Bruce Buttrey in person at the Springerville Ranger District, 165 S. Mountain Avenue, Springerville, AZ or by telephone at 928-333-4372. For further information, mail correspondence to Bruce Buttrey at the above address.

FOR FURTHER INFORMATION CONTACT: Bruce Buttrey, Natural Resource Specialist, at bbuttrey@fs.fed.us or (928) 333-4372.

SUPPLEMENTARY INFORMATION:

Purpose and Need for Action

The proposal to exchange lands in the Apache National Forest responds to the Forest Service's need for consolidation of federal land ownership patterns. The consolidation of federal ownership allows the Forest Service to enhance the management of the public's natural resources by acquiring lands that (1) protect habitat for several threatened, endangered, and sensitive species, (2) facilitate public access to federal lands, (3) improve wetlands, floodplains, and riparian areas, (4) decrease the complexity of maintaining property boundaries, and (5) improve the efficiency of resource management by focusing the Forest's funding and staff on consolidated ownerships. This action responds in part to an order dated March 1, 2007, by the United States District Court in Greer Coalition, Inc., and the Center for Biological Diversity v. U.S. Forest Service (D. AZ). The court remanded an October 14, 2005, decision authorizing the Black River Land Exchange to the Forest Service for proceedings consistent with its March 1, 2007 order. To comply with the court order the Forest Service will prepare an EIS addressing and evaluating the environmental impact should the federal land be developed using multiple shallow water wells.

Proposed Action

The Forest Supervisor proposes to exchange 337.74 acres of federal lands north of the unincorporated community of Greer, Arizona, for 396.35 acres of non-federal lands along with West Fork of the Black River and the Blue River in east-central Arizona. The federal lands proposed for exchange are located in Apache County; the non-federal lands proposed for exchange are located in Apache and Greenlee Counties, Arizona. the affected Forest Service units are the Springerville and Alpine Ranger Districts in the Apache-Sitgreaves National Forests. All acreages in this proposal have been verified. The United States of america would convey fee title to First American Title Insurance Company, Trustee, under Trust 8541 for the 70.57 acre Tract A and 267.17 acre Tract B parcels in Apache County, Arizona, in the Apache National Forest. First American Title Insurance Company, Trustee, under Trust 8541 would convey fee title to the United States of America for the 79.76 acre Rancho Alegre and 157.91 Thompson Ranch parcels in Apache County and the 158.68 acre Blue River Ranch parcel in Greelee County, Arizona, in the Apache National Forest.

The proposed exchange of lands does not require an amendment to the Apach-Sitgreaves National Forests Land and Resource Management Plan. Pursuant to the regulations for land exchanges (36 CFR 254.3(f)): “Lands acquired by exchange that are located within areas having an administrative designation established through the land management planning process shall automatically become part of the area within which they are located, without further action by the Forest Service, and shall be managed in accordance with the laws, rules, and regulations, and land and resource management plan applicable to such area.”

Possible Alternatives

A full range of alternatives to the proposed action, including a no-action alternative, were considered during the environmental analysis and will be discussed in the EIS. The no-action alternative represents no change from the current pattern of land ownership, and it serves as the baseline for the comparison among the action alternatives. In addition to the proposed action and the no-action alternatives, a deed restriction and a direct purchase alternative were considered.

Responsible Official

The Responsible Official is the Director of Lands and Minerals, Southwestern Region. He will review all issues, alternatives, and environmental consequences associated with the analysis; consider all public comments and response; and comply with all policies, regulations, and laws in making a decision regarding the proposed exchange of lands documented in the final EIS for the Black River Land Exchange. The Responsible Official will document his decision and rationale for the decision in a Record of Decision (ROD). His decision will be subject to public notice, review, comment, and appeal under the Forest Service Regulations for Notice, Comment, and Appeal Procedures for National Forest System projects and Activities at 36 CFR part 215.

Nature of Decision To Be Made

The Forest Service will determine if the lands to be exchanged are desirable, in the public interest and suitable for inclusion in the National Forest System. Land exchanges are discretionary, voluntary real estate transactions between the federal and non-federal parties. The exchange can only be completed after the authorized officer determines that the exchanges meets the requirements at 36 CFR 254.3(b): (1) The resource values and the public objectives served by non-federal lands and interests to be acquired are equal to or exceed the resource values and public objectives served by the federal lands to be disposed, and (2) the intended use of the disposed federal lands will not substantially conflict with established management objectives on adjacent federal lands, including Indian Trust Lands.

Lands will be exchanges on a value for value basis, based on current fair market value appraisals. The appraisal is prepared in accordance with the Uniform Appraisal Standards of Professional Appraisal Practice and the Uniform Appraisal Standards for Federal Land Acquisition. The appraisal prepared for the land exchange is reviewed by a qualified review appraiser to ensure that it is fair and complies with the appropriate standards. Under the Federal Land Policy and Management Act of 1976, all exchanges must be equal in value. Forest Service regulations at 36 CFR 254.3 require that exchanges must be of equal value or equalized pursuant to 36 CFR 254.12 by cash payment after making all reasonable efforts to equalize values by deleting lands. If lands proposed for exchange are not equal in value, either party may make them equal by cash payment not to exceed 25 percent of the federal land value. A March 2004, agency approval appraisal indicated by lands along with a federal cash payment were equal in value. A new appraisal will be prepared in 2008 to comply with the United States District Court March 1, 2007, court order.

Preliminary Issues

Previous litigation dealt with the potential effects to existing shallow water wells on adjacent private property from possible future drilling of additional new shallow water wells on the federal lands.

Scoping Process

The Forest Service encourages full participation in the proposed land exchange, beginning with the scoping process. Scoping will include notice in the Apache-Sitgreaves National Forests' Quarterly Schedule of Proposed Actions; distribution of letters to individuals, organizations, and agencies who have previously indicated interest in the Black River Land Exchange; communication with tribal interests; and publication of news releases in the White Mountain Independent and The Arizona Republic, the newspaper of record, for Regional Forester decisions for the Apache-Sitgreaves National Forests. Any news releases will also be distributed to other local newspapers that serve areas affected by this proposal. Public meetings are not currently scheduled. Any future public meetings that may be held will have a notice of time and location provided to newspapers that serve areas affected by this proposal. The scoping process will include identifying any new key issues and previously unknown potential environmental effects of the proposed action.

Comment Requested

This notice of intent initiates the scoping process which guides the development of the environmental impact statement. The Forest Service is seeking comments concerning the scope of the analysis from individuals, organizations, tribes, state and local agencies, and other federal agencies that may be interested in or affected by the proposed land exchange. All comments received in response to this notice, including the names and addresses of those who comment, will be considered part of the public record on this proposal and will be available for public inspection. The comment will be used in the preparation of the draft EIS.

Early Notice of Importance of Public Participation in Subsequent Environmental Review: A draft environmental impact statement will be prepared for comment. The comment period on the draft environmental impact statement will be 45 days from the date the Environmental Protection Agency publishes the notice of availability in the Federal Register.

The Forest Service believes it is important to give reviewers notice of several court rulings related to public participation in the environmental review process. First, reviewers of a draft EIS must structure their participation in the environmental review of the proposal so that it is meaningful and alerts an agency to the reviewer's position contentions. Vermont Yankee Nuclear Power Corporation versus Natural Resources Defense Council, 435 US 519, 553 (1978). Also, environmental objections that could be raised at the draft EIS stage, but that are not raised until completion of the final EIS, may be waived or dismissed by the courts. City of Angoon versus Hodel, 803 F 2d 1016, 1022 (9th Cir, 1986) and Wisconsin Heritages, Incorporated versus Harris, 490 F Supp 1334, 1338 (ED Wis, 1980). Because of these court rulings, it is important that those interested in this proposed action participate by the close of the 45-day comment period, so that comments are made available to the Forest Service at a time when it can meaningfully consider them and respond to them in the final EIS. To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council of Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: September 24, 2007.
Elaine J. Zieroth,
Forest Supervisor, Apache-Sitgreaves National Forests.

[FR Doc. 07-4861 Filed 10-2-07; 8:45 am]

BILLING CODE 3410-11-M